DEPARTMENT OF STATE

[Public Notice 10698]

Cultural Property Advisory Committee; Notice of Meeting

ACTION: Notice of a meeting.

SUMMARY: The Department of State is issuing this notice to announce the location, date, time, and agenda for the next meeting of the Cultural Property Advisory Committee.

DATES: April 1-2, 2019, 9 a.m. to 5 p.m. and April 3, 2019, 9 a.m. to 1 p.m. (EDT). The open session of the Cultural Property Advisory Committee will be held on April 1, 2019, at 1:30 p.m. (EDT). It will last approximately one hour. Participants will participate electronically. Those who wish to participate in the open session should visit http://culturalheritage.state.gov where information will be provided on how to access the meeting. Please submit any request for reasonable accommodation not later than March 15 by contacting the Bureau of Educational and Cultural Affairs at culprop@state.gov. It may not be possible to accommodate requests made after that date.

Written Comments: Must be received no later than March 25, 2019, at 11:59 p.m. (EDT).

ADDRESSES: The public will participate electronically. The members will meet at the U.S. Department of State, Annex 5, 2200 C St. NW, Washington, DC.

Comments: Methods of written comment submission are as follows:

• Electronic Comments: Use http://www.regulations.gov, enter the docket 2019-0004 and follow the prompts to submit comments.

• Paper Comments: If comments contain privileged or confidential information (within the meaning of 19 U.S.C. 2605(i)(1)), you may send comments to: U.S. Department of State, Bureau of Educational and Cultural Affairs—Cultural Heritage Center, SA-5 Floor 5, 2200 C St. NW, Washington, DC, 20522-0505.

FOR FURTHER INFORMATION: For general questions concerning the meeting, contact Andrew Cohen, Bureau of Educational and Cultural Affairs—Cultural Heritage Center by phone, (202) 632-6301, or email: culprop@state.gov.

SUPPLEMENTARY INFORMATION: Pursuant to § 306(e)(2) of the Convention on Cultural Property Implementation Act (5 U.S.C. 2601 et seq.) (“the Act”), the Assistant Secretary of State for Educational and Cultural Affairs calls a meeting of the Cultural Property Advisory Committee (”the Committee”). The Committee's responsibilities are carried out in accordance with provisions of the Act. A portion of this meeting will be closed to the public pursuant to 5 U.S.C. 552b(c)(9)(B) and 19 U.S.C. 2605.

Meeting Agenda: The Committee will review the requests by the Government of the Hashemite Kingdom of Jordan and the Government of the Republic of Chile seeking import restrictions on archaeological material.

Open Session Participation: An open session of the meeting to receive oral public comments on the Jordan and Chile requests will be held Monday, April 1, 2019, from 1:30 p.m. to approximately 2:30 p.m. (EDT). Instructions on participating in the open session and a summary of the Government of Jordan's request and the Government of Chile's request will be made available at http://culturalheritage.state.gov.

If you wish to participate in the open session at the meeting, you must request to be scheduled by March 27, 2019, via email (culprop@state.gov) in order to be guaranteed a slot. Please submit your name and organizational affiliation in this request. The open session will start with a brief presentation by the Committee, after which participants should be prepared to answer questions on any written statements they may have submitted. Finally, participants may provide additional oral comments for up to five (5) minutes per participant. Due to time constraints, it may not be possible to accommodate all who wish to speak.

Written Comments: If you do not wish to participate in the open session but still wish to make your views known, you may submit written comments for the Committee's consideration. Written comments from outside interested parties regarding either the Jordan or Chile requests must be submitted to the Regulations.gov website listed in the “COMMENTS” section above no later than March 25, 2019, at 11:59 p.m. (EDT). Your written comments should relate specifically to the matters referred to in 19 U.S.C. 2602(a)(1). The Department requests that any party soliciting or aggregating written comments received from other persons for submission to the Department inform those persons that the Department will not edit their comments to remove any identifying or contact information and that they therefore should not include any such information in their comments that they do not want publicly disclosed. Written comments submitted in electronic form are not private. The Department will post the comments at http://www.regulations.gov. Because written comments cannot be edited to remove any personally identifying or contact information, the U.S. Department of State cautions against including any such information in an electronic submission without appropriate permission to disclose that information (including trade secrets and commercial or financial information that are privileged or confidential within the meaning of 19 U.S.C. 2605(i)(1)).

Marie Therese Porter Royce,
Assistant Secretary, Bureau of Educational and Cultural Affairs, Department of State.

[FR Doc. 2019-04373 Filed 3-8-19; 8:45 am]

BILLING CODE 4710-05-P